DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of January 14, 2013 through January 18, 2013.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
82,077 | Consolidated Pine Inc., Mid-Oregon Personnel | Prineville, OR | October 12, 2011.
82,111 | Carolina Precision Plastics, Monroe Staffing | Stratford, CT | October 25, 2011.
82,168A | Foamworks, Inc | Cleveland, TN | November 21, 2011.
82,229 | Designer Blinds of Omaha, Inc | Omaha, NE | December 7, 2011.
82,279 | HL Operating, LLC, Formerly HL Operating Corp., Manpower, Paid Through Samsonite LLC | Lebanon, TN | December 6, 2011.

The following certifications have been issued. The requirements of Section 222(a)(2)(B) (shift in production or services) of the Trade Act have been met.

TA-W No. | Subject firm | Location | Impact date
82,173 | Bank of America, Unclaimed Property/Reg D Group | Kansas City, MO | November 26, 2011.
82,189 | Verizon Business Networks Services, Inc., Senior Analysts-Order Mgmt. Voice Over Internet Protocol, Small, Medium Bus | Tampa, FL | November 28, 2011.
82,200 | Covidien, Vascular Therapy Medical Devices, Kelly Services | Seneca, SC | December 3, 2011.
82,220 | Netlist, Inc., Test Engineering, Vitesse Recruiting | Irvine, CA | December 5, 2011.
82,225 | Dura Automotive Systems Cable Operations LLC, Control Systems Div., Hamilton Ryker, Manpower, Personnel Placements, etc | Milan, TN | December 6, 2011.
82,230 | YP Texas Region Yellow Pages LLC, Dallas Texas Division, Publishing Ops. Group, YP Texas Region, etc | Dallas, TX | December 7, 2011.
82,254 | Invensys Operations Management, Subsidiary of Invensys PLC, CDI Corporation | Foxboro, MA | December 13, 2011.
82,272 | L & W Supply Corporation, Financial Services Hub | Nottingham, MD | December 17, 2011.
82,273 | Johnson Controls, Inc., Global Workplace Solutions, Americas Call Center | Milwaukee, WI | December 14, 2011.
82,276 | Peak Sun Silicon Corporation, Peak Sun Materials Corporate Division | Albany, OR | December 14, 2011.
82,304 | Tyco Electronics, Telecom Networks Business Unit | Shakopee, MN | March 3, 2013.
82,306 | Riverside Publishing Company, Tech. Prod. Services Group, Houghton Mifflin Harcourt Publishing Co., etc | Rolling Meadows, IL | January 2, 2012.

The following certifications have been issued. The requirements of Section 222(c) (supplier to a firm whose workers are certified eligible to apply for TAA) of the Trade Act have been met.

TA-W No. | Subject firm | Location | Impact date
82,168 | Foamworks, Inc | Morristown, TN | November 21, 2011.
82,336 | Dana Structural Manufacturing LLC, Structures Division, Manpower | Longview, TX | February 19, 2013.

The following certifications have been issued. The requirements of Section 222(c) (downstream producer for a firm whose workers are certified eligible to apply for TAA) of the Trade Act have been met.

TA-W No. | Subject firm | Location | Impact date
82,217 | IronTiger Logistics, Inc., 2801 Wood Drive | Garland, TX | December 5, 2012.

Negative Determinations for Worker Adjustment Assistance

In the following cases, the investigation revealed that the eligibility criteria for worker adjustment assistance have not been met for the reasons specified.

The investigation revealed that the criteria under paragraphs(a)(2)(A) (increased imports) and (a)(2)(B) (shift in production or services to a foreign country) of section 222 have not been met.

TA-W No. | Subject firm | Location | Impact date
82,309 | Plumas Bank, Bank Item Processing Department | Quincy, CA. |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
82,277 | The Berry Company, LLC | Erie, PA. |
82,323 | Penthera Partners, Inc | Pittsburgh, PA. |

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
82,343 | Debusk Knitting Mill | New Tazewell, TN

The following determinations terminating investigations were issued because the petitioning groups of workers are covered by active certifications. Consequently, further investigation in these cases would serve no purpose since the petitioning group of workers cannot be covered by more than one certification at a time.

TA-W No. | Subject firm | Location | Impact date
82,210 | Wellpoint | Bronx, NY. |
82,231 | PepsiCo, Inc., Business & Information Solutions (BIS) Division, Cognizant & Infosys, Ltd | Bradenton, FL. |
82,263 | American Airlines, Tulsa International Airport, Aircraft Maintenance and Related | Tulsa, OK. |
82,294 | American Airlines, Tulsa International Airport, Aircraft Maintenance and Related | Tulsa, OK. |

I hereby certify that the aforementioned determinations were issued during the period of January 14, 2013 through January 18, 2013. These determinations are available on the Department's Web site tradeact/taa/taa search form.cfm under the searchable listing of determinations or by calling the Office of Trade Adjustment Assistance toll free at 888-365-6822.

Dated: January 23, 2013.
Elliott S. Kushner,
Certifying Officer, Office of Trade Adjustment Assistance.

[FR Doc. 2013-02533 Filed 2-5-13; 8:45 am]

BILLING CODE 4510-FN-P